DEPARTMENT OF TRANSPORTATION

Federal Aviation Administration

14 CFR Part 39

[Docket No. FAA-2020-0106; Product Identifier 2020-NM-005-AD; Amendment 39-21184; AD 2020-15-21]

RIN 2120-AA64

Airworthiness Directives; Airbus SAS Airplanes

AGENCY: Federal Aviation Administration (FAA), Department of Transportation (DOT).

ACTION: Final rule.

SUMMARY: The FAA is adopting a new airworthiness directive (AD) for all Airbus SAS Model A330-200, -200 Freighter, and -300 series airplanes. This AD was prompted by a determination that certain inspection procedures specified an incorrect inspection area. This AD requires repetitive detailed inspections of a certain stringer location, and applicable corrective actions if necessary, as specified in European Union Aviation Safety Agency (EASA) AD 2019-0315, dated December 23, 2019, which is incorporated by reference. The FAA is issuing this AD to address the unsafe condition on these products.

DATES: This AD is effective October 1, 2020.

The Director of the Federal Register approved the incorporation by reference of a certain publication listed in this AD as of October 1, 2020.

ADDRESSES: For material incorporated by reference (IBR) in this AD, contact the EASA, Konrad-Adenauer-Ufer 3, 50668 Cologne, Germany; phone: +49 221 8999 000; email: ADs@easa.europa.eu; internet: www.easa.europa.eu. You may find this IBR material on the EASA website at https://ad.easa.europa.eu. You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2020-0106.

Examining the AD Docket

You may examine the AD docket on the internet at https://www.regulations.gov by searching for and locating Docket No. FAA-2020-0106; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Vladimir Ulyanov, Aerospace Engineer, Large Aircraft Section, International Validation Branch, FAA, 2200 South 216th St., Des Moines, WA 98198; phone and fax: 206-231-3229; email: vladimir.ulyanov@faa.gov.

SUPPLEMENTARY INFORMATION:

Discussion

The EASA, which is the Technical Agent for the Member States of the European Union, has issued EASA AD 2019-0315, dated December 23, 2019 (“EASA AD 2019-0315”) (also referred to as the Mandatory Continuing Airworthiness Information, or “the MCAI”), to correct an unsafe condition for all Airbus SAS Model A330-200 series airplanes, Model A330-200 Freighter series airplanes, and Model A330-300 series airplanes.

The FAA issued a notice of proposed rulemaking (NPRM) to amend 14 CFR part 39 by adding an AD that would apply to all Airbus SAS Model A330-200, -200 Freighter, and -300 series airplanes. The NPRM published in the Federal Register on March 9, 2020 (85 FR 13583). The NPRM was prompted by a determination that certain inspection procedures specified an incorrect inspection area. The NPRM proposed to require repetitive detailed inspections of a certain stringer location, and applicable corrective actions if necessary, as specified in an EASA AD.

The FAA is issuing this AD to address potential undetected damage, which could affect the structural integrity of the affected area, leading to potential in-flight loss of the bulk cargo door, and possible consequent damage to the airplane. See the MCAI for additional background information.

Comments

The FAA gave the public the opportunity to participate in developing this final rule. The following presents the comments received on the NPRM and the FAA's response to each comment.

Support for the NPRM

Jackson Ritchie expressed support for the NPRM and increased inspections as a method to improve airline safety.

Request To Reference the Relationship Between AD 2019-23-02 and the NPRM

Delta Air Lines (DAL) requested that the FAA reference the relationship between AD 2019-23-02, Amendment 39-19795 (84 FR 64725, November 25, 2019) (“AD 2019-23-02”) and the NPRM. DAL pointed out that AD 2019-23-02 mandates revision of the existing maintenance or inspection program by incorporating the information specified in Airbus Airworthiness Limitation Section (ALS) Part 2. ALS Part 2 mandates accomplishment of certain inspections of the bulk cargo door at 13,400 flight cycles since the date of manufacture, and that EASA AD 2019-0315, specified in this AD, requires certain inspections of the bulk cargo door at 22,200 flight cycles since the date of manufacture. These inspections are to be performed in accordance with Airbus Non-destructive Testing Manual (NTM) procedure specified in NTM task 53-40-17. In certain cases, the ALS mandated inspections, with the incorrect inspection area specified in NTM task 53-40-17, may be performed prior to the inspection required by this AD. DAL explained that EASA AD 2019-0315 allows the inspections specified in the corrected NTM task 53-40-17 with the corrected inspection area as an alternative to the required actions. EASA AD 2019-0315 also specifies that the ALS Part 2 tasks remain unchanged, thus causing certain bulk cargo door inspections specified in ALS Part 2, if accomplished in accordance with the NTM procedure containing the corrected inspection area, to be compliant with the required initial and repetitive inspections of this AD. DAL mentioned that referencing this relationship will provide clarification to operators and enable them to proactively implement the correct NTM inspection procedures prior to the Airbus ALS Part 2 mandated inspection thresholds, with the result of better quality inspections and avoiding unnecessary re-inspection.

The FAA agrees for the reasons provided and has included an explanation under the “Relationship Between AD 2019-23-02 and this AD” heading in the preamble of this final rule describing the relationship between AD 2019-23-02 and this AD.

Conclusion

The FAA reviewed the relevant data, considered the comments received, and determined that air safety and the public interest require adopting this final rule as proposed, except for minor editorial changes. The FAA has determined that these minor changes:

• Are consistent with the intent that was proposed in the NPRM for addressing the unsafe condition; and

• Do not add any additional burden upon the public than was already proposed in the NPRM.

Relationship Between AD 2019-23-02 and This AD

AD 2019-23-02 requires revision of the existing maintenance or inspection program by incorporating the information specified in Airbus ALS Part 2. Among other actions, Airbus ALS Part 2 specifies certain inspections of the bulk cargo door to be accomplished at 13,400 flight cycles since the date of airplane manufacture. These inspections are to be performed in accordance with the Airbus NTM procedure specified in NTM task 53-40-17, which may contain a figure that specifies an incorrect inspection area. This AD requires the actions specified in EASA AD 2019-0315, which specifies certain inspections of the bulk cargo door at 22,200 flight cycles since the date of manufacture using service information containing the corrected inspection area. EASA AD 2019-0315 allows the NTM procedure specified in the ALS Part 2 required in AD 2019-23-02 with the corrected inspection area as an alternative to the required actions. EASA AD 2019-0315 also specifies that the ALS Part 2 tasks remain unchanged, thus causing certain bulk cargo door inspections, if accomplished in accordance with the NTM procedure containing the corrected inspection area, to be compliant with the required initial and repetitive inspections of this AD. Therefore, accomplishing the requirements of AD 2019-23-02 with the corrected inspection area also meets the requirements of this AD.

Related IBR Material Under 1 CFR Part 51

EASA AD 2019-0315 describes procedures for repetitive detailed inspections of stringer 44 right-hand at fuselage frame (FR) 67 for discrepancies (such as cracking), and applicable corrective actions. Corrective actions might include repair. This material is reasonably available because the interested parties have access to it through their normal course of business or by the means identified in the ADDRESSES section.

Costs of Compliance

The FAA estimates that this AD affects 113 airplanes of U.S. registry. The FAA estimates the following costs to comply with this AD:

Estimated Costs for Required Actions
Labor cost | Parts cost | Cost per product | Cost on U.S. operators
1 work-hour × $85 per hour = $85 | $0 | $85 | $9,605

The FAA has received no definitive data that would enable us to provide cost estimates for the on-condition actions specified in this AD.

Estimated Costs for Optional Actions
Labor cost | Parts cost | Cost per product
1 work-hour × $85 per hour = $85 | $0 | $85

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-15-21 Airbus SAS: Amendment 39-21184; Docket No. FAA-2020-0106; Product Identifier 2020-NM-005-AD.

(a) Effective Date

This AD is effective October 1, 2020.

(b) Affected ADs

None.

(c) Applicability

This AD applies to the airplanes specified in paragraphs (c)(1) through (3) of this AD, certificated in any category, all manufacturer serial numbers.

(1) Airbus SAS Model A330-201, -202, -203, -223, and -243 airplanes.

(2) Airbus SAS Model A330-223F and -243F airplanes.

(3) Airbus SAS Model A330-301, -302, -303, -321, -322, -323, -341, -342, and -343 airplanes.

(d) Subject

Air Transport Association (ATA) of America Code 53, Fuselage.

(e) Reason

This AD was prompted by a determination that certain inspection procedures specified the inspection area as stringer (STR) 43 right-hand (RH) at fuselage frame (FR) 67 instead of STR 44 RH at fuselage FR 67. The FAA is issuing this AD to address potential undetected damage, which could affect the structural integrity of the affected area, leading to potential in-flight loss of the bulk cargo door, and possible consequent damage to the airplane.

(f) Compliance

Comply with this AD within the compliance times specified, unless already done.

(g) Requirements

Except as specified in paragraph (h) of this AD: Comply with all required actions and compliance times specified in, and in accordance with, European Union Aviation Safety Agency (EASA) AD 2019-0315, dated December 23, 2019 (“EASA AD 2019-0315”).

(h) Exceptions to EASA AD 2019-0315

(1) Where EASA AD 2019-0315 refers to its effective date, this AD requires using the effective date of this AD.

(2) The “Remarks” section of EASA AD 2019-0315 does not apply to this AD.

(3) Where EASA AD 2019-0315 specifies to comply with “the instructions of the AOT,” this AD requires compliance with the procedures marked as required for compliance (RC) in the alert operators transmission (AOT).

(i) No Reporting Requirement

Although the service information referenced in EASA AD 2019-0315 specifies to submit certain information to the manufacturer, this AD does not include that requirement.

(j) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or local Flight Standards District Office, as appropriate. If sending information directly to the Large Aircraft Section, International Validation Branch, send it to the attention of the person identified in paragraph (k) of this AD. Information may be emailed to: 9-AVS-AIR-730-AMOC@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): For any service information referenced in EASA AD 2019-0315 that contains RC procedures and tests: Except as required by paragraph (j)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

For more information about this AD, contact Vladimir Ulyanov, Aerospace Engineer, Large Aircraft Section, International Validation Branch, FAA, 2200 South 216th St., Des Moines, WA 98198; phone and fax: 206-231-3229; email: vladimir.ulyanov@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2019-0315, dated December 23, 2019.

(ii) [Reserved]

(3) For information about EASA AD 2019-0315, contact the EASA, Konrad-Adenauer-Ufer 3, 50668 Cologne, Germany; phone: +49 221 8999 000; email: ADs@easa.europa.eu; internet: www.easa.europa.eu. You may find this EASA AD on the EASA website at https://ad.easa.europa.eu.

(4) You may view this material at the FAA, Airworthiness Products Section, Operational Safety Branch, 2200 South 216th St., Des Moines, WA. For information on the availability of this material at the FAA, call 206-231-3195. This material may be found in the AD docket on the internet at https://www.regulations.gov by searching for and locating Docket No. FAA-2020-0106.

(5) You may view this material that is incorporated by reference at the National Archives and Records Administration (NARA). For information on the availability of this material at NARA, email fedreg.legal@nara.gov, or go to: https://www.archives.gov/federal-register/cfr/ibr-locations.html.

Issued on July 20, 2020.
Gaetano A. Sciortino,
Deputy Director for Strategic Initiatives, Compliance & Airworthiness Division, Aircraft Certification Service.

[FR Doc. 2020-18820 Filed 8-26-20; 8:45 am]

BILLING CODE 4910-13-P